DEPARTMENT OF TRANSPORTATION

Federal Aviation Administration

Sixth Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft and Working Groups 1-3 and Sub-Groups 1-3.

DATES: The meeting will be held May 16-19, 2006, starting at 9 a.m.

ADDRESSES: The meeting will be held at RTCA, 1828 L Street, NW., Suite 805, Washington, DC 20036.

FOR FURTHER INFORMATION CONTACT: (1) RTCA Secretariat, 1828 L Street, NW., Suite 805, Washington, DC 20036; telephone (202) 833-9339; fax (202) 833-9434; Web site http:www.rtca.org

SUPPLEMENTARY INFORMATION: Pursuant to section 10(a)(2) of the Federal Advisory Committee Act (Pub. L. 92-463, 5 U.S.C., Appendix 2), notice is hereby given for a Special Committee 203 meeting. The agenda will include:

• May 16:

• Sub-Group 1, 2 & 3 Writing Teams in working sessions.

• May 17:

• Opening Plenary Session (Welcome and Introductory Remarks, Approval of Fifth Plenary Summary, Review SC-203 Progress Since Fifth Plenary, Other Business, Prepare for Plenary #7, Plenary Adjourns).

• Sub-Group Writing Teams in working sessions.

• May 18:

• Sub-Group 1, 2 & 3 Writing Teams continue in working sessions.

• Working Groups 2 & 3 Teams in working session.

• May 19:

• Sub-Group 1, 2, & 3 Writing Teams in working sessions.

• Working Groups 2 & 3 in working session.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 18, 2006.
Francisco Estrada C.,
RTCA Advisory Committee.

[FR Doc. 06-4038 Filed 4-28-06; 8:45 am]

BILLING CODE 4910-13-M